DEPARTMENT OF TRANSPORTATION

Federal Aviation Administration

Change Notice for RTCA Program Management Committee

AGENCY: Federal Aviation Administration (FAA), DOT.

ACTION: Notice of RTCA Program Management Committee meeting.

SUMMARY: The FAA is issuing this notice to advise the public of a meeting of the RTCA Program Management Committee.

DATES: The meeting will be held November 8, 2005 starting at 9 a.m.

ADDRESSES: The meeting will be held at RTCA, Inc., 1828 L Street, NW., Suite 805, Washington, DC 20036.

FOR FURTHER INFORMATION CONTACT: RTCA Secretariat, 1828 L Street, NW., Suite 850, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Program Management Committee meeting. The revised agenda will include:

• November 8:

• Opening Session (Welcome and Introductory Remarks, Review/Approve Summary of Previous Meeting)

• Publication Consideration/Approval:

• Final Draft, Revised DO-281, Minimum Operational Performance Standards for Aircraft VDL Mode 2 Physical, Link and Network Layer, RTCA Paper No. 198-05/PMC-413, prepared by SC-172.

• Final Draft, Revised DO-271B, Minimum Operational Performance Standards for Aircraft VDL Mode 3 Transceiver Operating in the Frequency Range 117.975-137.000 MHz, RTCA Paper No. 159-05/PMC-404, prepared by SC-172.

• Final Draft, Revised DO-186A, Minimum Operational Performance Standards for Airborne Radio Communications Equipment, RTCA Paper No. 160-05/PMC-405, prepared by SC-172.

• Final Draft, Integrated Modular Avionics (IMA) Development Guidance and Certification Considerations, RTCA Paper No. 131-05/PMC-402, prepared by SC-200.

• Final Draft, Safety Analysis of Proposed Change to TCAS RA Reversal Logic, RTCA Paper No. 199-05/PMC-414, prepared by SC-147.

• Discussion:

• SC-147—Traffic Alert and Collision Avoidance System.

• Discussion dependent on Agenda Item 3E results.

• Review/Approve revised Terms of Reference for additional work to revise DO-185A, Minimum Operational Performance Standards for Traffic Alert and Collision Avoidance System II (TCAS II) Airborne Equipment.

• SC-203—Unmanned Aircraft Systems.

• Review Committee Status.

• Review/Approve revised Terms of Reference.

• SC-206—Aeronautical Information Services (AIS) Data Link.

• Review Committee Status.

• Review/Approve revised Terms of Reference.

• Cabin Management Systems—Discussion Possible New Committee.

• Review/Approve Terms of Reference/Leadership.

• Special Committee chairman's Reports.

• Action Item Review:

• SC-205—Software Considerations.

• Review Committee Status.

• Review/Approve revised Terms of Reference of additional work to modify RTCA DO-278—Guidelines for Communications, Navigation, Surveillance, and Air Traffic Management Systems Software Integrity Assurance.

• Synthetic Vision Systems (SVS)—Discussion—Possible New Committee Request.

• Closing Session (Other Business, Document Production, Date and Place of Next Meeting, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on October 13, 2005.
Natalie Ogletree,
FAA General Engineer, RTCA Advisory Committee.

[FR Doc. 05-21145 Filed 10-21-05; 8:45 am]

BILLING CODE 4910-13-M